DEPARTMENT OF LABOR

Employment and Training Administration

[TA-W-61,273]

Jeld-Wen Door Systems, Door Division, Chiloquin, OR; Notice of Termination of Investigation

Pursuant to Section 221 of the Trade Act of 1974, as amended, an investigation was initiated on April 10, 2007 in response to a petition filed on behalf of workers of Jeld-Wen Door Systems, Door Division, Chiloquin, Oregon.

This petition is a photocopy of the petition filed for this worker group on March 21, 2007 (TA-W-61,158). On April 5, 2007, the Department issued a negative determination applicable to workers of Jeld-Wen Door Systems, Door Division in Chiloquin, Oregon.

Consequently, further investigation would serve no purpose, and the investigation has been terminated.

Signed at Washington, DC, this 12th day of April, 2007.
Linda G. Poole,
Certifying Officer, Division of Trade Adjustment Assistance.

[FR Doc. E7-7623 Filed 4-20-07; 8:45 am]

BILLING CODE 4510-FN-P